DEPARTMENT OF TRANSPORTATION

Federal Transit Administration

Environmental Impact Statement for the Green Line to the Airport Project, Sacramento County, California

AGENCY: Federal Transit Administration, DOT.

ACTION: Notice of intent to prepare an Environmental Impact Statement (EIS).

SUMMARY: The Federal Transit Administration (FTA) and Sacramento Regional Transit District (RT) issue this Notice of Intent (NOI) to advise other agencies and the public that it will prepare an Environmental Impact Statement (EIS) for the proposed Green Line to the Airport Project in Sacramento County, California. The EIS will be prepared as a joint document that includes an Environmental Impact Report (EIR) prepared pursuant to the California Environmental Quality Act (CEQA). The project consists of an extension of the existing Green Line light rail service from the existing terminus of the Green Line at Township 9 (at North 7th Street and Richards Boulevard near Downtown Sacramento) to the Sacramento International Airport. The proposed project would provide new transit service and related infrastructure in the City of Sacramento, serving communities such as the River District and the South and North Natomas communities, as well as linking these areas better to the larger Sacramento region. The EIS will evaluate alternatives to the proposed action, including the No Build Alternative and possible minimum operable segments.

The EIS will be prepared in accordance with regulations implementing the National Environmental Policy Act (NEPA) regulations (40 CFR parts 1500 through 1508), 23 U.S.C. 139, and FTA's regulations and guidance implementing NEPA under 23 CFR 771. FTA will serve as the federal lead agency and RT will serve as a joint lead agency per NEPA. RT is also the local lead agency under CEQA. The U.S Army Corps of Engineers (USACE) will be a cooperating agency pursuant to 40 CFR 1501.6.

The purpose of this notice is to alert interested parties regarding the intent to prepare the EIS/EIR, to provide information on the nature of the proposed action and possible alternatives, to invite participation in the EIS process including providing comments on the scope of the Draft EIS; and to announce that public scoping meetings will be conducted.

DATES: Written comments on the scope of the Draft EIR/EIS including the project's purpose and need, the alternatives to be considered, the impacts to be evaluated, and the methodologies to be used in the evaluations should be sent to RT on or before Friday, January 15, 2016. See ADDRESSES below. Public scoping meetings to accept comments on the scope of the EIS/EIR will be held on the following dates:

• Tuesday, December 1, 2015; beginning at 6 p.m. at the Natomas Park Elementary School at 4700 Crest Drive, Sacramento, CA 95835.

• Wednesday, December 2, 2015; beginning at 6 p.m. at the Library Galleria, Downtown Sacramento Public Library at 828 I Street, Sacramento, CA 95814.

• Thursday, December 3, 2015; beginning at 6 p.m. at South Natomas Community Center at 2921 Truxel Road, Sacramento, CA 95833.

The locations are accessible to persons with disabilities. Any individual who requires a language interpreter or signing services or other special accommodations, to participate in the scoping meetings should contact Gladys Cornell at (916) 442-1168 or gcornell@aimconsultingco.com at least 48 hours before the scoping meeting.

Scoping materials will be available at the meetings and on the RT Web site (http://www.sacrt.com/dna). Representatives of Native American tribal governments and of all federal, state, regional and local agencies that may have an interest in any aspect of the project will be invited to be participating or cooperating agencies, as appropriate.

ADDRESSES: Comments will be accepted at the public scoping meetings or they may be sent to Jeff Damon, Project Manager, at RT, 1400 29th Street, Sacramento, CA 95816.

FOR FURTHER INFORMATION CONTACT: Jeff Damon at the address above or Lucinda Eagle, Community Planner, Region IX Office, Federal Transit Administration at 201 Mission Street, Suite 1650, San Francisco, CA 94015, phone (415) 744-2590, or via email at lucinda.eagle@dot.gov.

SUPPLEMENTARY INFORMATION:

Scoping

Scoping is the process of determining the scope, focus, and content of an EIS. The FTA and RT invite all interested individuals and organizations, agencies, and Native American groups to provide comments on the scope of the Draft EIS including the project's purpose and need, the alternatives under consideration, the environmental impacts to be evaluated, and the evaluation approach.

Purpose and Need for the Proposed Project

The purpose of the project is to improve transit linkages and coverage to communities and activity centers within the study area, alleviate roadway congestion by providing a robust transit network that offers an alternative to automobile travel, and provide a safe, convenient, and affordable alternative for traveling between Downtown Sacramento, South and North Natomas, and the Sacramento International Airport. In addition, the project would provide a connection directly to the region's major intermodal facility at the Sacramento Valley Station, where bus, light rail, and Amtrak commuter rail services provide access to a much larger region.

The need for the project is based on recent and projected future population and employment growth in the study area, including new developments proposed as a result of the lifting of a building moratorium by the Federal Emergency Management Agency (FEMA) in March 2015. The building moratorium in Natomas went into effect in 2008 to ensure the advancement of levee improvement to provide flood protection in the Natomas area. The region is showing significant signs of economic recovery and job growth is leading housing growth. The proposed project alignment is entirely within Center and Corridor Communities, and is forecast to be among the primary growth areas in the region. Based on Sacramento Area Council of Governments forecasts, the population in the area is expected to grow by 811,000 people, an increase of about 36 percent, between 2012 and 2036. The growth projections include approximately 439,000 new employees from 2012 to 2036, as compared to the 361,000 new employees forecasted in the last plan from 2008 to 2035. By 2036, the land use forecast projects that 30 percent of new housing and 35 percent of new employees will be located in Center and Corridor Communities. New activity centers in the study area include North Natomas, Greenbriar, Metro Air Park, and redevelopment of the Sleep Train Arena complex. In addition, the southern portion of the study area includes the Railyards development project, the largest redevelopment of a brownfields site west of the Mississippi River that will include new housing, business, and entertainment destinations, as well as a regional hospital complex.

The projected development, population and employment growth, and new activity centers increase demand for additional transportation infrastructure capacity. The only connection currently serving the study area, between Downtown Sacramento and the airport, is Interstate 5 (I-5). The California Department of Transportation reports that existing levels of service along the segment of I-5 in the vicinity of the proposed project operates at level of service F, a forced or breakdown flow of traffic with stop and go traffic. Increases in traffic congestion are projected in the study area in the absence of significant new investments in alternative transportation. Increases in traffic volumes will worsen conditions on the I-5 corridor, which connects the Natomas area to Downtown Sacramento via an existing American River bridge crossing carrying local, regional, and interstate vehicle traffic. Congestion on the bridge and its connecting roadways (Garden Highway and Richards Boulevard) results in undesirable travel delays including delays for buses and emergency vehicles. Increases in traffic volumes in the study area are expected to stimulate increased demand for transit services, which in the study area are currently limited to local RT bus routes and one Yolobus route that serves Sacramento International Airport.

Study Area Description

The project study area is located in Sacramento County, California, and includes portions of North and South Natomas. The corridor study area extends approximately 11.3-miles between Township 9 (at North 7th Street and Richards Boulevard near Downtown Sacramento) and Sacramento International Airport. The study area surrounding the Township 9 station is within the River District, a historically industrial area that is being redeveloped as a mixed-use community. The American River Parkway is located north of the River District. The Parkway includes recreation areas and natural land cover. South Natomas, between the American River Parkway and I-80, is primarily single- and multi-family residential with supporting neighborhood commercial and institutional uses. North Natomas, between the I-80 and State Route 99 crossings, is a recently developed area containing new single-family residential neighborhoods, several multi-family residential complexes, and larger commercial, industrial, and institutional land uses. North Natomas also includes the large Sleep Train Arena complex, which is expected to be redeveloped in the near future. Two proposed development sites—Greenbriar and Metro Air Park—are located between North Natomas and Sacramento International Airport.

Alternatives Considered

Between 2001 and 2003, RT conducted the Downtown-Natomas-Airport Alternatives Analysis (AA) to evaluate the costs, benefits, and impacts of a range of transportation alternatives to address mobility and transportation connectivity between Downtown Sacramento and the Sacramento International Airport. The AA report considered a wide range of transit technology and alignment alternatives for the corridor. Transit technology options included bus rapid transit and light rail, and the alignment options included Truxel Road to the Airport, I-5 between Downtown and I-80 and Truxel Road between I-80 and the Airport, and I-5 to Airport. On December 12, 2001, a Notice of Intent was issued in the Federal Register of the Downtown-Natomas-Airport Light Rail Transit The Board adopted a Locally Preferred Alternative (LPA) in 2003. However, no EIS or Record of Decision was prepared due to lack of federal funding and participation in the project. The LPA is included in the RT Transit Action Plan, the City of Sacramento General Plan, and the Sacramento Area Council of Governments Metropolitan Transportation Plan/Sustainable Communities Plan. Following the AA, a Program EIR was prepared for the Downtown-Natomas-Airport Light Rail Transit project in accordance with CEQA and was certified in 2008.

The Draft EIS/EIR will analyze reasonable alternatives uncovered during scoping. The alternatives being evaluated include:

No-Build Alternative: The No-Build Alternative represents conditions that would be reasonably expected to occur in the foreseeable future if the proposed build alternative were not implemented. The No-Build Alternative includes existing conditions, services, and facilities plus all possible service improvements and committed transit improvements in the proposed project corridor.

Locally Preferred Alternative: The LPA is an approximately 11.3-mile light rail transit project between Township 9 and Sacramento International Airport. The LPA includes refinements to the alignment since the LPA was adopted by the Board in 2003. This alternative consists of features typical of light rail transit, including but not limited to stations, tracks, overhead catenary, traction power substations, signaling and safety features, park-and-ride facilities, and maintenance and storage facilities. The alignment follows Richards Boulevard and Sequoia Pacific Boulevard through the River District. It crosses the American River to Truxel Road and includes a section of dedicated right-of-way adjacent to the roadway in North Natomas. The alignment turns westerly, crossing Highway 99 and traversing planned transit-oriented developments at Greenbriar and Metro Air Park before terminating at the Sacramento International Airport. Due to the associated increases in the size of RT's light rail vehicle fleet, the project also includes an expansion of RT's existing light rail maintenance facility (on Academy Way in North Sacramento) in combination with a new maintenance facility near Sacramento International Airport.

The LPA includes a new bridge over the American River which will accommodate transit, bicycles, and pedestrians, and include connections to the American River Parkway on the north and south sides of the river. A design option of the bridge includes a wider bridge cross section to accommodate automobiles.

In addition to the alternatives described above, the Draft EIS will examine alignment design options to respond to new opportunities and conditions at the Sleep Train Arena site and at the Sacramento International Airport. Also, depending on funding availability from various federal and local sources, construction to Sacramento International Airport may require one or more phases. Phased implementation of the Green Line project or minimum operable segments will be considered as part of the Draft EIS.

Probable Effects

The purpose of the EIS is to study, in a public setting, the potential effects and benefits on the physical, human, and natural environment of implementing the proposed action. The permanent or long-term effects to be investigated during this study include effects to public parks and recreation lands (Section 4(f) Evaluation), traffic and transportation, land use and socioeconomic, visual character and aesthetics, noise and vibration, historical and archaeological resources, community effects, and natural resources. Temporary effects during construction may include effects to transportation and traffic, air quality, water quality, noise and vibration, natural resources, and encounters with hazardous materials and contaminated soils. Measures to avoid, minimize, and mitigate adverse impacts will also be identified and evaluated.

The analysis during the environmental review process will be undertaken in conformity with Federal environmental laws, regulations, and executive orders applicable to the proposed project. These requirements include, but are not limited to, the regulations of the Council on Environmental Quality implementing NEPA (40 CFR parts 1500 through 1508), FTA's NEPA implementing regulations and procedures (23 CFR part 771 and 23 U.S.C. 139), the air quality transportation conformity regulation of the U.S. Environmental Protection Agency (EPA) (40 CFR part 93), guidelines for disposal of dredged or fill material in section 404(b)(1) guidelines of EPA (40 CFR part 230), Executive Orders 13609and 11988 on floodplains, 11990 on wetlands, and 12898 on environmental justice, and regulations implementing section 106 of the National Historic Preservation Act (36 CFR part 800), section 7 of the Endangered Species Act (50 CFR part 402), and section 4(f) of the Department of Transportation Act (23 CFR 774).

FTA's Public and Agency Involvement Procedures

Regulations implementing NEPA and FTA guidance call for public involvement in the environmental review process. In accordance with these regulations and guidance, FTA and RT will: (1) Extend an invitation to other federal and non-federal agencies and Native American tribes that may have an interest in the proposed project to become participating agencies (any interested agency that does not receive an invitation can notify any of the contact persons listed earlier in this NOI); (2) provide an opportunity for involvement by participating agencies and the public to help define the purpose and need for a proposed project, as well as the range of alternatives for consideration in the EIS/EIR; and (3) establish a plan for coordinating public and agency participation in, and comment on, the environmental review process.

With the publication of this NOI, the scoping process and the public comment period for the project begins allowing the public to offer input on the scope of the EIS/EIR until Friday, January 15, 2016. Public comments will be received through those methods explained earlier in this NOI and will be incorporated into a Scoping Summary Report. The Scoping Summary Report will detail the scope of the EIS/EIR and the potential environmental effects that will be considered during the study period. After the completion of the Draft EIS/EIR, a public and agency review period will allow for input on the Draft EIS/EIR and these comments will be incorporated into the Final EIS/EIR for this project. In accordance with Section 1319 of the Moving Ahead for Progress in the 21st Century Act (MAP-21) (Pub. L. 112-114), Accelerated Decision-making in Environmental Reviews, FTA may consider the use of errata sheets attached to the Draft EIS/EIR in place of a in place of a traditional Final EIS/EIR and/or development a single environmental decision document that consists of a Final EIS/EIR and a Record of Decision (ROD), if certain conditions exist following the conclusion of the public and agency review period for the project's Draft EIS/EIR.

Leslie T. Rogers,
Regional Administrator, Regional IX, Federal Transit Administration.

[FR Doc. 2015-29418 Filed 11-17-15; 8:45 am]

BILLING CODE P